DEPARTMENT OF THE INTERIOR

Fish and Wildlife Service

Proposed Information Collection; OMB Control Number 1018-0015; Migratory Bird Surveys

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before May 15, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

The Migratory Bird Treaty Act (16 U.S.C. 703-711) and the Fish and Wildlife Act of 1956 (16 U.S.C. 742d) designate the Department of the Interior as the key agency responsible for (1) the wise management of migratory bird populations frequenting the United States, and (2) setting hunting regulations that allow appropriate harvests that are within the guidelines that will allow for those populations' well-being. These responsibilities dictate that we gather accurate data on various characteristics of migratory bird harvest. We use the knowledge attained by determining harvests and harvest rates of migratory game birds to regulate populations (by promulgating hunting regulations) and to encourage hunting opportunity, especially where crop depredations are chronic and/or lightly-harvested populations occur. Based on information from harvest surveys, we can adjust hunting regulations as needed to optimize harvests at levels that provide a maximum of hunting recreation while keeping populations at desired levels.

Under the Migratory Bird Harvest Program, State licensing authorities collect the name and address information needed to provide a sample frame of all licensed migratory bird hunters. Since Federal regulations require that the States collect this information, we are including the associated burden in our approval request to OMB. We propose to combine three surveys in this IC because the surveys are interrelated and/or dependent upon each other:

(1) Migratory Bird Hunter Surveys, currently approved under OMB Control No. 1018-0015, which expires February 28, 2008.

(2) Parts Collection Survey, also approved under OMB Control No. 1018-0015.

(3) Sandhill Crane Harvest Survey, currently approved under OMB Control No. 1018-0023, which expires November 30, 2007.

The Migratory Bird Hunter Survey is based on the Migratory Bird Harvest Information Program, under which each State annually provides a list of all migratory bird hunters in the State. We randomly select migratory bird hunters; send them either a waterfowl questionnaire, a dove and band-tailed pigeon questionnaire, a woodcock questionnaire, or a snipe, rail, gallinule and coot questionnaire; and ask them to report their harvest of those species. The resulting estimates of harvest per hunter are combined with the complete list of migratory bird hunters to provide estimates of the total harvest of those species.

The Parts Collection Survey estimates the species, sex, and age composition of the harvest, and the geographic and temporal distribution of the harvest. Randomly selected successful hunters who responded to the Migratory Bird Hunter Survey the previous year are asked to complete and return a postcard if they are willing to participate in the Parts Collection Survey. We provide postage-paid envelopes to respondents before the hunting season and ask them to send in a wing or the tail feathers from each duck, goose, or coot they harvest, or a wing from each woodcock, band-tailed pigeon, snipe, rail, or gallinule they harvest. We use the wings and tail feathers to identify the species, sex, and age of the harvested sample. We also ask respondents to report on the envelope the date and location of harvest for each bird. Results of this survey are combined with the harvest estimates obtained from the Migratory Bird Hunter Survey to provide species-specific national harvest estimates.

The combined results of these surveys enable us to evaluate the effects of season length, season dates, and bag limits on the harvest of each species, and thus help us determine appropriate hunting regulations.

We are proposing to include the Sandhill Crane Harvest Survey (current OMB Control Number 1018-0023) with the others in this approval request, all under OMB Control Number 1018-0015. The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed to optimize harvest at levels that provide a maximum of hunting recreation while keeping the population at the desired level.

We are also seeking approval to add a mourning dove wing collection to the Parts Collection Survey on an experimental basis. We will use the wings to identify the age of each sample, thereby providing estimates of annual mourning dove productivity at the management unit level. Those estimates of annual productivity are needed to improve the mourning dove population models that we have developed for each management unit. We will compare the results and costs of our experimental mail survey with results and costs of mourning dove wing collection methods that are currently employed by some, but not all, States that have dove hunting seasons. If mourning dove productivity estimates are similar for the two methods, we would propose to adopt the more cost-effective method on a national scale.

II. Data

OMB Control Number: 1018-0015.

Title: Migratory Bird Surveys.

Service Form Number(s): 3-165, 3-165A, 3-165B, 3-165C, and 3-2056J-N.

Type of Request: Revision of currently approved collection.

Affected Public: Migratory game bird hunters.

Respondent's Obligation: Voluntary.

Frequency of Collection: Annually.

Activity | Number of annual respondents | Number of annual responses | Completion time per response | Annual burden hours
Migratory Bird Harvest Information Program | 3,800,000 | 3,800,000 | 0.033 hours | 125,400
Migratory Bird Hunter Survey | 85,000 | 85,000 | 0.067 hours | 5,695
Parts Collection Survey | 10,000 | 110,000 | 0.033 hours | 3,630
Sandhill Cane Harvest Survey | 7,500 | 7,500 | 0.067 hours | 503
Totals | 3,902,500 | 4,002,500 |  | 135,228

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record. We will include and/or summarize each comment in our request to OMB to approve this IC.

Dated: March 1, 2007
Hope Grey,
Information Collection Clearance Officer, Fish and Wildlife Service.

FR Doc. E7-4842 Filed 3-15-07; 8:45 am

BILLING CODE 4310-55-S